DEPARTMENT OF COMMERCE

Foreign-Trade Zones Board

[B-46-2016]

Foreign-Trade Zone (FTZ) 189—Kent/Ottawa/Muskegon Counties, Michigan; Notification of Proposed Production Activity; Adient US LLC; Subzone 189D (Motorized Seat Adjusters for Motor Vehicles); Holland and Zeeland, Michigan

Adient US LLC (Adient), owned by Johnson Controls, Inc., submitted a notification of proposed production activity to the FTZ Board for its facilities within FTZ 189D, at sites in Holland and Zeeland, Michigan. The notification conforming to the requirements of the regulations of the FTZ Board (15 CFR 400.22) was received on July 13, 2016.

The facilities are used for the production of motorized seat adjusters for motor vehicles. Pursuant to 15 CFR 400.14(b), FTZ activity would be limited to the specific foreign-status components and specific finished product described in the submitted notification (as described below) and subsequently authorized by the FTZ Board.

Production under FTZ procedures could exempt Adient from customs duty payments on the foreign-status components used in export production. On its domestic sales, Adient would be able to choose the duty rate during customs entry procedures that applies to motorized seat adjusters (duty free) for the foreign-status electric seat adjuster motors (duty rate—2.8%). Customs duties also could possibly be deferred or reduced on foreign-status production equipment.

Public comment is invited from interested parties. Submissions shall be addressed to the FTZ Board's Executive Secretary at the address below. The closing period for their receipt is September 6, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: July 21, 2016.
Andrew McGilvray,
Executive Secretary.

[FR Doc. 2016-17807 Filed 7-27-16; 8:45 am]

BILLING CODE 3510-DS-P